DEPARTMENT OF HOMELAND SECURITY

Coast Guard

[Docket No. USCG-2010-1104]

Notice of Availability of Draft Programmatic Environmental Assessment for the Nationwide Implementation of the Interagency Operations Centers

AGENCY: Coast Guard, DHS.

ACTION: Notice of availability and request for comments.

SUMMARY: The Coast Guard announces the availability of a Draft Programmatic Environmental Assessment (PEA) for the proposed nationwide implementation of the Interagency Operations Centers (IOC) Project.

DATES: Comments and related material must either be submitted to our online docket via http://www.regulations.gov on or before December 19, 2011 or reach the Docket Management Facility by that date.

ADDRESSES: You may submit comments identified by docket number USCG-2010-1104 using any one of the following methods:

(1) Federal Rulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand Delivery: Same as mail address above, between 9 a.m. and 5 p.m., Monday through Friday, except Federal holidays. The telephone number is 202-366-9329.

To avoid duplication, please use only one of the four methods. See the “Public Participation and Request for Comments” portion of the SUPPLEMENTARY INFORMATION section below for instructions on submitting comments.

FOR FURTHER INFORMATION CONTACT: If you have questions on this notice, please contact CAPT Robert Wilbur, Coast Guard, telephone 202-475-3039 or e-mail robert.s.wilbur@uscg.mil. If you have questions on viewing or submitting material to the docket, call Renee V. Wright, Program Manager, Docket Operations, telephone 202-366-9826.

SUPPLEMENTARY INFORMATION:

Public Participation and Request for Comments

We encourage you to submit comments and related material on the Draft PEA. All comments received will be posted, without change, to http://www.regulations.gov and will include any personal information you have provided.

Submitting comments: If you submit a comment, please include the docket number for this notice (USCG-2010-1104), and provide a reason for each suggestion or recommendation. You may submit your comments and material online, or by fax, mail, or hand delivery, but please use only one of these means. We recommend that you include your name and a mailing address, an e-mail address, or a telephone number in the body of your document so that we can contact you if we have questions regarding your submission.

To submit your comment online, go to http://www.regulations.gov, insert “USCG-2010-1104” in the “Keyword” box. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments, PEA, and associated documents: To view the comments, PEA, and associated documents, go to http://www.regulations.gov. In the “Keyword” box, insert “USCG-2010-1104” and click “Search.” If you do not have access to the internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008 issue of the Federal Register (73 FR 3316).

Basis and Purpose

The Security and Accountability for Every Port Act of 2006 (SAFE Port Act), Public Law 109-347, 120 Stat. 1884, was enacted to improve maritime and United States port security through enhanced layered defenses. Section 108 of the SAFE Port Act directs the establishment of IOCs at all high priority ports that “utilize, as appropriate, the compositional and operations characteristics of existing centers” and are “organized to fit the security needs, requirements, and resources of the individual port area at which each is operating.”

The Coast Guard will satisfy this mandate through the development and transformation of approximately 35 existing Coast Guard Sector Command Centers (Sectors) into coordinated planning and operations centers.

The primary mission of this action is to enhance maritime security and interoperability, bringing together, federal, state, and local stakeholders in high-priority ports. Establishing IOCs will improve inter-agency information sharing and tactical coordination, which will aid the Coast Guard in preventing, deterring, and responding to threats within the nation's critical ports and waterways. The following table lists existing Sectors being considered for reconfiguration to IOCs.

Addresses of Sector Locations Considered for Transformation to IOC
Hampton Roads, 4000 Coast Guard Boulevard, Portsmouth, VA 23703-2199 | San Francisco, 1 Yerba Buena Island, San Francisco, CA 94130-9309 | Boston, 427 Commercial Street, Boston, MA 02109-1027 | Charleston, 196 Tradd St., Charleston, SC 29401-1817.
Tampa-St. Petersburg, 600 8th Avenue, SE, St. Petersburg, FL 33701-5099 | San Diego, 2710 Harbor Drive N., San Diego, CA 92101-1028 | New York, 212 Coast Guard Drive, Staten Island, NY 10305 | Sault Ste. Marie, 337 Water St., Sault Ste Marie, MI 49783-9501.
Los Angeles/Long Beach, 1001 S. Seaside Ave., Bldg. 20 San Pedro, CA 90731-0208 | Puget Sound, 1519 Alaskan Way, South Seattle, WA 98134-1192 | Baltimore, 2401 Hawkins Point Rd., Baltimore, MD 21226-1797 | Long Island, 120 Woodward Ave. New Haven, CT 06512-3698.
Ohio Valley, 600 Martin Luther King Jr., Mazzoli Federal Bldg., Rm 421 Louisville, KY 40202-2251 | Columbia River, 2185 SE Airport Rd, Warrenton, OR 97146-9693 | Delaware Bay, 1 Washington Avenue, Philadelphia, PA 19147-4395 | Mobile, South Broad St., Mobile, AL 36615.
Northern New England, 259 High St., South Portland, ME 04106-0007 | Corpus Christi, 8930 Ocean Dr., Corpus Christi, TX 78419-5220 | Buffalo, 1 Fuhrmann Boulevard, Buffalo, NY 14203-3189 | Jacksonville, 4200 Ocean St., Atlantic Beach, FL 2233-2416.
Southern New England, Little Harbor Rd., Woods Hole, MA 02543-1099 | Houston-Galveston, 9640 Clinton Dr., Houston, TX 77029-4328 | Detroit, 110 Mt. Elliot Ave., Detroit, MI 48207-4380 | Juneau, 2760 Sherwood Lane, Suite 2A, Juneau, AK 99801-8545.
Lower Mississippi, 2 A W Wills Ave., Memphis, TN 38105-1502 | Key West, 100 Trumbo Rd., Key West, FL 33040-0005 | New Orleans, 201 Old Hammond Hwy, Metairie, LA 70005 | Anchorage, 510 L Street, Suite 100, Anchorage, AK 99501-1946.
Lake Michigan, 2420 S. Lincoln Memorial Dr., Milwaukee, WI 53207-1997 | Miami, 100 MacArthur Causeway, Rm. 201, Miami Beach, FL 33139-5101 | Guam, PSC 455 Box 176 FPO, AP 96540-1056 | San Juan, 5 Calle La Puntilla Final, San Juan, PR 00901-1800.
Upper Mississippi, 1222 Spruce St., Suite 7.103, St. Louis, MO 63103-2832 | Honolulu, 400 Sand Island Parkway, Honolulu, HI 96819-4398 | North Carolina, 2301 East Fort Macon Rd., Atlantic Beach, NC 28512-5633 |

The Coast Guard has prepared a Draft PEA in accordance with the National Environmental Policy Act (NEPA) and its implementing regulations. The Coast Guard published a notice of intent to prepare this PEA in the Federal Register(75 FR 78722, Dec. 16, 2010).

Proposed Action

The Proposed Action consists of fully transforming 35 existing Sectors to function as IOCs over the next 12 years. This transformation is proposed to occur through upgrades in information management systems and sensor capability, and possibly by improving facilities at selected locations through renovation, leasing, or new construction. The Coast Guard plans to implement the IOC project, nationwide, in a series of four discrete segments. Segment 1 will provide each IOC location with an information management solution called WatchKeeper to integrate vessel targeting, operations, monitoring, and planning. Segment 2 will establish an integrated sensor management system by installing hardware and software at each IOC location. Segment 3 will be implemented through adding 1-15 new sensor systems at each IOC location to expand the existing sensor network. Segment 4 will involve upgrading the existing Sector facilities through renovation, leasing, or new construction at selected locations to IOC facilities. Each IOC will be tailored to the individual needs of the ports, and will be operated in coordination with multiple partner agencies and organizations including Federal agencies, state, tribal, and local law enforcement, and port authorities.

The Coast Guard has prepared this Draft PEA in accordance with Section 102(2)(c) of NEPA as implemented by the Council on Environmental Quality regulations (40 CFR parts 1500-1508), Department of Homeland Security Management Directive 023.1 (Environmental Planning Program), and Coast Guard National Environmental Policy Act Implementing Procedures and Policy for Considering Environmental Impacts, (COMDTINST M16475.1D). The PEA addresses the general environmental impacts of the Proposed Action and the No Action Alternative. The No Action Alternative will serve as a baseline against which to compare the potential impacts of the Proposed Action.

Two Alternatives to the Proposed Action were eliminated from further consideration in the PEA because they do not fully support the purpose or need of the IOC project. These Alternatives were to implement only Segments 1 and 2; and to implement only Segments 1, 2, and 3.

The PEA analyzes the potential environmental impacts associated with implementing Segments 1, 2, 3, and 4 of the Proposed Action, and fully transforming existing Sector locations into IOCs. The broad analysis of the PEA does not address the potential site-specific environmental impacts of the Proposed Action. If the analysis in the PEA does not adequately cover the site-specific actions required to construct, lease, or relocate IOC facilities, then the Coast Guard will tier follow-on Environmental Assessments and Categorical Exclusions as appropriate on a case-by-case basis.

We request comments from all interested parties to ensure that the full range and significance of issues related to the Proposed Action are identified.

This notice is issued under authority of 42 U.S.C. 4321, et seq., and 40 CFR 1508.22

Dated: September 13, 2011.
Robert Wilbur,
Captain, U.S. Coast Guard, Project Manager, Interagency Operation Centers Project.

[FR Doc. 2011-24052 Filed 9-19-11; 8:45 am]

BILLING CODE 9110-04-P